DEPARTMENT OF ENERGY

Federal Energy Regulatory Commission

[Docket No. QF08-72-000]

Jewish Home and Hospital Life Care System, Bronx Division; Notice of Self-Certification of Qualifying Status of a Cogeneration Facility

December 13, 2007.

Take notice that on November 21, 2007, Jewish Home and Hospital Life Care System, Bronx Division, 2545 University Ave., Bronx, NY 10468, filed with the Federal Energy Regulatory Commission a notice of self-certification of a facility as a qualifying cogeneration facility pursuant to 18 CFR 292.207(a) of the Commission's regulations.

The facility will be a 300 kW facility comprised of three 100 kW Tecogen cogeneration units (topping) located in the mechanical room of Greenwall Pavilion at 2545 University Ave., Bronx, New York. The energy source will be natural gas.

The facility will interconnect with Con Edison for stand-by service but will not export power to the grid.

A notice of self-certification does not institute a proceeding regarding qualifying facility status; a notice of self-certification provides notice that the entity making filing has determined the Facility meets the applicable criteria to be a qualifying facility. Any person seeking to challenge such qualifying facility status may do so by filing a motion pursuant to 18 CFR 292.207(d) (1)(iii), with the appropriate filing fee.¹

¹ See Hydro Investors, Inc. v. Trafalgar Power Inc., 94 FERC ¶ 61,207, reh'g denied, 95 FERC ¶ 61,120 (2001).

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. E7-24667 Filed 12-19-07; 8:45 am]

BILLING CODE 6717-01-P